DEPARTMENT OF THE INTERIOR

Office of Surface Mining Reclamation and Enforcement

[S1D1SS08011000SX066A00067F134S180110; S2D2SS08011000SX066A00033F13XS501520]

Action Subject to Intergovernmental Review

AGENCY: Office of Surface Mining Reclamation and Enforcement, Interior.

ACTION: Notice.

SUMMARY: We, the Office of Surface Mining Reclamation and Enforcement, are notifying the public that we intend to grant funds to eligible applicants for purposes authorized under the Abandoned Mine Land (AML) Reclamation Program. Additionally, we are notifying the public that we intend to grant funds to eligible applicants for regulating coal mining within their jurisdictional borders. We will award these grants during fiscal year 2014.

DATES: A state single point of contact and other interested state or local entities may submit written comments regarding AML and regulatory funding by December 31, 2013.

ADDRESSES: You may submit comments by any of the following methods:

• Electronic Mail: Send your comments to jbautista@osmre.gov.

• Mail, Hand-Delivery, or Courier: Send your comments to Office of Surface Mining Reclamation and Enforcement, Administrative Record, Room 203-SIB, 1951 Constitution Avenue NW., Washington, DC 20240.

FOR FURTHER INFORMATION CONTACT: Mr. Jay Bautista, Office of Surface Mining Reclamation and Enforcement, 1951 Constitution Ave. NW., MS 130-SIB, Washington, DC 20240; Telephone (202) 208-7411.

SUPPLEMENTARY INFORMATION:

Grant Notification

We are notifying the public that we intend to grant funds to eligible applicants for purposes authorized under the Abandoned Mine Land (AML) Reclamation Program. Additionally, we are notifying the public that we intend to grant funds to eligible applicants for regulating coal mining within their jurisdictional borders. We will award these grants during fiscal year 2014. Eligible applicants are those states and tribes with a regulatory program or reclamation plan approved under the Surface Mining Control and Reclamation Act of 1977 (SMCRA), 30 U.S.C. 1201 et seq., and the State of Tennessee. Under Executive Order (E.O.) 12372, we must provide state and tribal officials the opportunity to review and comment on proposed federal financial assistance activities. Of the eligible applicants, twenty states and tribes do not have single points-of-contact under the E.O. 12372 review process; therefore, we are required to publish this notice as an alternate means of notification.

Description of the AML Program

SMCRA established the Abandoned Mine Reclamation Fund to receive the AML fees used to finance reclamation of AML coal mine sites. Grants to eligible states and tribes are funded from permanent (mandatory) appropriations. Recipients use these funds to reclaim the highest priority AML coal mine sites that were left abandoned prior to the enactment of SMCRA in 1977, eligible non-coal sites, and for non-reclamation projects.

Description of the Regulatory Program

Title VII of SMCRA authorizes us to provide grants to states and Indian tribes to develop, administer, and enforce state regulatory programs addressing surface coal mining operations. Title V and Title VII authorize states and tribes to develop regulatory programs pursuant to SMCRA, and upon approval of the regulatory program, to assume regulatory primacy and act as the regulatory authority responsible for administering and enforcing the approved SMCRA regulatory program. Our regulations at 30 CFR Chapter VII implement the provisions of SMCRA.

Dated: October 24, 2013.
Joseph G. Pizarchik,
Director, Office of Surface Mining Reclamation and Enforcement.

[FR Doc. 2013-27228 Filed 11-13-13; 8:45 am]

BILLING CODE 4310-05-P